DEPARTMENT OF TRANSPORTATION

Pipeline and Hazardous Materials Safety Administration

[Docket ID PHMSA-2007-28505]

Pipeline Safety: Requests for Special Permits

AGENCY: Pipeline and Hazardous Materials Safety Administration (PHMSA); DOT.

ACTION: Notice.

SUMMARY: The Federal pipeline safety laws allow a pipeline operator to request PHMSA to waive compliance with any part of the Federal pipeline safety regulations. We are publishing this notice to provide a list of requests we have received from pipeline operators seeking relief from compliance with certain pipeline safety regulations. This notice seeks public comment on these requests, including comments on any environmental impacts. In addition, this notice reminds the public that we have changed what we call a decision granting such a request to a special permit. At the conclusion of the comment period, PHMSA will evaluate each request individually to determine whether to grant a special permit or deny the request.

DATES: Submit any comments regarding any of these requests for special permit by February 4, 2008.

ADDRESSES: Comments should reference the docket number for the request and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE., Washington, DC 20590.

• Hand Delivery: DOT Docket Management System; U.S. Department of Transportation, Docket Operations, M-30, West Building Ground Floor, Room W12-140, 1200 New Jersey Avenue, SE., Washington, DC 20590 between 9 a.m. and 5 p.m., Monday through Friday, except Federal holidays.

Instructions: You should identify the docket ID for the request you are commenting on at the beginning of your comments. If you submit your comments by mail, submit two copies. To receive confirmation that PHMSA received your comments, include a self-addressed stamped postcard. Internet users may submit comments at http://www.regulations.gov.

Note: Comments are posted without changes or edits to http://www.regulations.gov, including any personal information provided. There is a privacy statement published on http://www.regulations.gov.

FOR FURTHER INFORMATION CONTACT: Wayne Lemoi by telephone at (404) 832-1160; or, e-mail at wayne.lemoi@dot.gov.

SUPPLEMENTARY INFORMATION:

Change in Nomenclature

PHMSA changed the name of a decision we made granting a request for waiver of compliance from “decision granting waiver” to “special permit” to reflect that granting the request will not reduce safety. We commonly add safety conditions to decisions granting waivers to ensure that waiving compliance with an existing pipeline safety standard is consistent with pipeline safety. The change was simply a name change for a decision granting waiver under 49 U.S.C. 60118(c)(1).

Comments Invited on Requests for Waiver

PHMSA has filed in the Federal Docket Management System (FDMS) requests for waivers we have received from pipeline operators seeking relief from compliance with certain pipeline safety regulations. Each request has been assigned a separate docket ID in the FDMS. We invite interested persons to participate by reviewing these requests and by submitting written comments, data or other views. Please include any comments on the environmental impacts that granting the requests may have.

Before acting on any request, PHMSA will evaluate all comments received on or before the comment closing date. We will consider comments received after this date if it is possible to do so without incurring additional expense or delay. We may grant or deny these requests based on the comments we receive.

PHMSA has received the following requests for waivers of compliance with pipeline safety regulations.

Docket ID | Requester | Regulation(s) | Nature of waiver
PHMSA-2007-29033 | ExxonMobil Pipeline Company | 49 CFR 195.452(h) | To allow certain anomalies discovered on the New Iberia to Sunset Pipeline in Louisiana to remain “as-is” by permanently maintaining an operating pressure reduction taken on January 3, 2007. The anomalies were discovered using In-Line Inspection (ILI) tools during Integrity Management Program (IMP) assessments.
PHMSA-2007-29034 | ConocoPhillips Pipe Line Company | 49 CFR 195.452(h) | To waive repair requirements for one dent located on the top of the BL-01 pipeline from Hardtner, KS to Wichita, KS and for one dent located on the top of the CM-01 pipeline from Kingfisher, OK to Medford, OK. The dents were discovered using ILI tools during IMP assessments.
PHMSA-2007-0038 | ConocoPhillips Alaska, Inc. (CPAI) | 49 CFR 195.583 | To waive atmospheric corrosion inspection requirements for certain non-piggable sections of CPAI's above ground pipelines on the North Slope of Alaska.
PHMSA-2007-28994 | Gulf South Pipeline Company, L.P | 49 CFR 192.111 49 CFR 192.201 49 CFR 192.619 | To authorize operation of the Southeast Expansion Project, a 110.8-mile gas transmission pipeline, from Harrisville, MS to Choctaw County, AL at a maximum allowable operating pressure (MAOP) of 80% of the specified minimum yield strength (SMYS).
PHMSA-2007-29078 | Kern River Gas Transmission Company | 49 CFR 192.111 49 CFR 192.201 49 CFR 192.505 49 CFR 192.619 | To authorize operation of approximately 1,380 miles of the Kern River pipeline system and 300 miles of Common Facilities running from Lincoln County, WY through Utah and into San Bernardino County, CA at an MAOP of 80% SMYS in Class 1 locations, 67% SMYS in Class 2 locations, and 56% SMYS in Class 3 locations and compressor stations.
PHMSA-2007-29032 | Texas Eastern Transmission, L.P. (a Spectra Energy Company) | 49 CFR 192.611 | To authorize operation of 19 pipeline segments at 6 sites along Lines 14, 18, and 31 downstream of the Union Church and Clinton compressor stations in Mississippi without reducing operating pressure as a result of a change from Class 1 to Class 2 locations.
PHMSA-2007-0039 | Gulf South Pipeline Company, L.P | 49 CFR 192.611 | To authorize operation of 3 pipeline segments on the TPL 880 pipeline in Marion County, AL without reducing operating pressure as a result of a change from Class 1 to Class 3 locations.

Authority: 49 U.S.C. 60118(c)(1) and 49 CFR 1.53.

Issued in Washington, DC, on December 27, 2007.
Jeffrey D. Wiese,
Associate Administrator for Pipeline Safety.

[FR Doc. E7-25634 Filed 1-3-08; 8:45 am]

BILLING CODE 4910-60-P